DEPARTMENT OF HOMELAND SECURITY

Coast Guard

33 CFR Part 117

[USCG-2013-0031]

Drawbridge Operating Regulations; Gulf Intracoastal Waterway, Belle Chasse, LA

AGENCY: Coast Guard, DHS.

ACTION: Notice of deviation from drawbridge regulation.

SUMMARY: The Coast Guard has issued a temporary deviation from the operating schedule that governs the Louisiana State Route 23 (LA 23) vertical lift span bridge, also known as the Judge Perez Bridge, across the Gulf Intracoastal Waterway (Algiers Alternate Route), mile 3.8, at Belle Chasse, Plaquemines Parish, Louisiana. This deviation is necessary to repair bridge machinery and to replace the wire ropes of the bridge. This deviation allows the bridge to remain closed to navigation for eight consecutive days in order to perform scheduled maintenance.

DATES: This deviation is effective from 6 a.m. on Sunday, February 24, 2013, until 6 a.m. on Monday, March 4, 2013.

ADDRESSES: The docket for this notice, docket number USCG-2013-0031, is available online. To view it, go to http://www.regulations.gov, type the docket number in the “SEARCH” box and click “SEARCH.” Click on Open Docket Folder on the line associated with this notice of deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard, telephone (504) 671-2128, email David.m.frank@uscg.mil. If you have questions on viewing the docket, call Docket Operations, telephone 202-366-9826.

SUPPLEMENTARY INFORMATION: C.E.C., Inc, on behalf of the Louisiana Department of Transportation and Development (LDOTD) has requested a temporary deviation in order to perform maintenance on the State Route 23 (LA 23) vertical lift span bridge, also known as the Judge Perez Bridge, across the Gulf Intracoastal Waterway (Algiers Alternate Route), mile 3.8, at Belle Chasse, Plaquemines Parish, Louisiana. This maintenance is necessary to make mechanical repairs to the bridge and to replace the wire ropes on the bridge. This temporary deviation will allow the bridge to remain closed to navigation position continuously from 6 a.m. on Sunday, February 24, 2013, until 6 a.m. on Monday, March 4, 2013. During the closure the draw will not be able to open for emergencies. Currently, as specified in 33 CFR 117.451(b), the draw opens on signal; except that, from 6 a.m. to 8:30 a.m. and from 3:30 p.m. to 5:30 p.m. Monday through Friday, except Federal holidays, the draw need not be opened for the passage of vessels.

The State Route 23 vertical lift span drawbridge across the Gulf Intracoastal Waterway (Algiers Alternate Route), mile 3.8, at Belle Chasse, Louisiana has a vertical clearance of 40 feet above mean high water in the closed-to-navigation position and 100 feet above mean high water in the open-to-navigation position. Navigation on the waterway consists primarily of tugs with tows, commercial fishing vessels, and occasional recreational craft. Mariners may use the Gulf Intracoastal Waterway (Harvey Canal) to avoid unnecessary delays. The Coast Guard has coordinated this closure with the Gulf Intracoastal Canal Association (GICA). The GICA representative indicated that the vessel operators will be able to schedule transits through the bridge such that operations will not significantly be hindered. Thus, it has been determined that this closure will not have a significant effect on these vessels. This closure is considered necessary for repair of the bridge.

In accordance with 33 CFR 117.35(e), the drawbridge must return to its regular operating schedule immediately at the end of the effective period of this temporary deviation. This deviation from the operating regulations is authorized under 33 CFR 117.35.

Dated: January 22, 2013.
David M. Frank,
Bridge Administrator.

[FR Doc. 2013-01942 Filed 1-29-13; 8:45 am]

BILLING CODE 9110-04-P